DEPARTMENT OF DEFENSE

Office of the Secretary

[Docket ID DOD-2011-OS-0055]

Defense Logistics Agency Revised Regulation 1000.22, Environmental Considerations in Defense Logistics Agency Actions

AGENCY: Defense Logistics Agency, Department of Defense.

ACTION: Revised Defense Logistics Agency Regulation (DLAR) 1000.22.

SUMMARY: On May 18, 2011, the Defense Logistics Agency (DLA) published a Notice of Availability (NOA) in the Federal Register (76 FR 28757) announcing the revised Defense Logistics Agency Regulation (DLAR) 1000.22 implementing the National Environmental Policy Act of 1969, 42 U.S.C. 4321 et seq. (NEPA) and Council on Environmental Quality (CEQ) Regulations (40 CFR parts 1500-1508). The revised DLA regulation was available for a 30-day public comment period. DLA has incorporated the comment received from the Navy, and after a conformity review by the CEQ, DLA is adopting the revised regulation.

ADDRESSES: The final regulation is available for review on the following DLA Web site— http://www.dla.mil/dlaps/.

Dated: November 18, 2011.
Aaron Siegel,
Alternate OSD Federal Register Liaison Officer, Department of Defense.

[FR Doc. 2011-30251 Filed 11-22-11; 8:45 am]

BILLING CODE 5001-06-P